DEPARTMENT OF HEALTH AND HUMAN SERVICES

National Institutes of Health

Center for Scientific Review; Amended Notice of Meeting

Notice is hereby given of a change in the meeting of the Biomedical Computing and Health Informatics Study Section, October 10, 2019, 8:00 a.m. to October 11, 2019, 6:00 p.m. at the Doubletree Hotel Bethesda, 8120 Wisconsin Avenue, Bethesda MD 20814, which was published in the Federal Register on September 10, 2019, 84 FR 47528.

The Contact Person for this meeting has been changed to Karen Nieves Lugo, Ph.D., Scientific Review Officer, Center for Scientific Review, National Institutes of Health, 6701 Rockledge Drive, Bethesda MD, 20892, (301) 594-9088, karen.nieveslugo@nih.gov. The meeting date, time and location remain the same. The meeting is closed to the public.

Dated: October 2, 2019.
Miguelina Perez,
Program Analyst, Office of Federal Advisory Committee Policy.

[FR Doc. 2019-21849 Filed 10-7-19; 8:45 am]

BILLING CODE 4140-01-P